DEPARTMENT OF COMMERCE

National Oceanic and Atmospheric Administration

50 CFR Part 635

[I.D. 101300B]

Atlantic Highly Migratory Species Fisheries; Atlantic Bluefin Tuna

AGENCY: National Marine Fisheries Service (NMFS), National Oceanic and Atmospheric Administration (NOAA), Commerce.

ACTION: Inseason transfer.

SUMMARY: NMFS adjusts the October-December subquota for the General category Atlantic bluefin tuna (BFT) fishery by transferring 25 metric tons (mt) from the Reserve, 15 mt from the Longline North subcategory quota, and 60 mt from the Angling category (large school size class for the northern area), for a revised coastwide General category subquota of approximately 264.4 mt for October-December, including addition of underharvest from the previous time periods. These actions are being taken to allow for maximum utilization of the U.S. landings quota of BFT while maintaining a fair distribution of fishing opportunities, preventing overharvest of the adjusted subquotas for the affected fishing categories, helping achieve optimum yield in the General category fishery, and allowing the collection of a broad range of data for stock monitoring purposes, consistent with the objectives of the Fishery Management Plan for Atlantic Tunas, Swordfish, and Sharks (HMS FMP).

DATES: Effective October 17, 2000 until December 31, 2000.

FOR FURTHER INFORMATION CONTACT: Pat Scida, 978-281-9208.

SUPPLEMENTARY INFORMATION: Regulations implemented under the authority of the Atlantic Tunas Convention Act (16 U.S.C. 971 et seq.) and the Magnuson-Stevens Fishery Conservation and Management Act (16 U.S.C. 1801 et seq.) governing the harvest of BFT by persons and vessels subject to U.S. jurisdiction are found at 50 CFR part 635. Section 635.27 subdivides the U.S. BFT quota recommended by the International Commission for the Conservation of Atlantic Tunas among the various domestic fishing categories.

Under the implementing regulations at 50 CFR 635.27 (a)(7), NMFS has the authority to allocate any portion of the Reserve to any category quota in the fishery, other than the Angling category school BFT subquota (for which there is a separate reserve), after considering the following factors: (1) The usefulness of information obtained from catches in the particular category for biological sampling and monitoring of the status of the stock; (2) the catches of the particular category quota to date and the likelihood of closure of that segment of the fishery if no allocation is made; (3) the projected ability of the vessels fishing under the particular category quota to harvest the additional amount of BFT before the end of the fishing year; (4) the estimated amounts by which quotas established for other gear segments of the fishery might be exceeded; (5) effects of the transfer on BFT rebuilding and overfishing; and (6) effects of the transfer on accomplishing the objectives of the HMS FMP.

NMFS is also authorized under 50 CFR 635.27(a)(8) to transfer quotas among categories, or, as appropriate, subcategories, of the fishery. If it is determined, based on the factors listed here and the probability of exceeding the total quota, that vessels fishing under any category or subcategory quota are not likely to take that quota, NMFS may transfer inseason any portion of the remaining quota of that fishing category to any other fishing category or to the reserve.

Quota Adjustments

Annual BFT quota specifications issued under § 635.27 provide for a quota of 634.3 mt of large medium and giant BFT to be harvested from the regulatory area by vessels fishing under the General category quota during the 2000 fishing year. The General category BFT quota is further subdivided into time period subquotas to provide for broad temporal and geographic distribution of scientific data collection and fishing opportunities. The October-December subquota was initially set at 62.4 mt for the 2000 fishing year, and is currently 164.4 mt, after the addition of approximately 102 mt of unharvested subquota from previous periods. As of October 10, 2000, General category landings against this adjusted October-December subquota have totaled approximately 79 mt, reducing the available quota for the remainder of the season to 85.4 mt. An additional 10 mt has been set aside for the traditional fall New York Bight fishery.

After considering the factors for making transfers between categories and from the Reserve, NMFS has determined that 25 mt of the remaining 34.4 mt of Reserve should be transferred to the General category. In addition, NMFS has determined that 15 mt of the remaining Longline North subcategory quota of approximately 26 mt should be transferred to the General category. Finally, NMFS has determined that 60 mt of the remaining Angling North large school/small medium subcategory quota of approximately 161.1 mt should be transferred to the General category. Thus, a total of 100 mt is transferred to the General category for an adjusted annual quota of 734.3 mt (including the 10 mt New York Bight set-aside). The adjusted subquota for the coastwide General category fishery for the October-December period is 264.4 mt.

Once the General category subquota for the October-December period has been attained, the coastwide fishery will be closed and NMFS will take action to reopen the New York Bight fishery. Announcement of the closure will be filed with the Office of the Federal Register, stating the effective date of closure, and further communicated through the Highly Migratory Species Fax Network, the Atlantic Tunas Information Line, NOAA weather radio, and Coast Guard Notice to Mariners. Although notification of closure will be provided as far in advance as possible, fishermen are encouraged to call the Atlantic Tunas Information Line at (888) USA-TUNA or (978) 281-9305, to check the status of the fishery before leaving for a fishing trip.

Classification

This action is taken under 50 CFR 635.27 and is exempt from review under Executive Order 12866.

Authority: 16 U.S.C. 971 et seq. and 1801 et seq.

Dated: October 17, 2000.
Bruce C. Morehead,
Acting Director, Office of Sustainable Fisheries, National Marine Fisheries Service.

[FR Doc. 00-27053 Filed 10-17-00; 4:17 pm]

BILLING CODE 3510-22-S